DEPARTMENT OF COMMERCE

National Institute of Standards and Technology

Announcement of the American Petroleum Institute's Standards Activities

AGENCY: National Institute of Standards and Technology, Commerce.

ACTION: Notice of intent to develop or revise standards and request for public comment and participation in standards development.

SUMMARY: The American Petroleum Institute (API), with the assistance of other interested parties, continues to develop standards, both national and international, in several areas. This notice lists the standardization efforts currently being conducted by API committees. The publication of this notice by the National Institute of Standards and Technology (NIST) on behalf of API is being undertaken as a public service. NIST does not necessarily endorse, approve, or recommend the standards referenced.

ADDRESSES: American Petroleum Institute, 1220 L Street, NW., Washington, DC 20005; telephone (202) 682-8000, http://www.api.org.

FOR FURTHER INFORMATION CONTACT: All contact individuals listed in the SUPPLEMENTARY INFORMATION section of this notice may be reached at the American Petroleum Institute.

SUPPLEMENTARY INFORMATION:

Background

The American Petroleum Institute develops and publishes voluntary standards for equipment, materials, operations, and processes for the petroleum and natural gas industry. These standards are used by both private industry and by governmental agencies. All interested persons should contact the appropriate source as listed for further information.

Pipeline Committee

Std 1163, 1st edition, ILI Systems Qualification.

RP 1133, 1st edition, Guideline for Onshore Hydrocarbon Pipelines Crossing Floodplains.

Std 1165, 1st edition, SCADA Display.

Std 1104, 20th edition, Pipeline Welding.

For Further Information Contact: Andrea Johnson, Standards Department, e-mail: johnsona@api.org.

Committee on Marketing

Std 2610, 2nd Edition, Design, Construction, Operation, Maintenance, and Inspection of Terminal and Tank Facilities.

API/IP Std 1529, 7th edition, Aviation Fueling Hose.

RP 1626, 2nd edition, Recommended Practice for Storing and Handling Ethanol and Gasoline-ethanol Blends at Distribution Terminals and Service Stations.

API 15xx, 1st edition, Recommended Practice for Documenting and Testing Aviation Fuel Quality from Manufacture to Airport.

API 15xx, 1st edition, Recommended Practice for Quality Control and Pre-Airfield Storage Terminals.

For Further Information Contact: David Soffrin, Standards Department, e-mail: soffrind@api.org.

Committee on Refining

Corrosion & Materials

RP 651, 3rd edition, Cathodic Protection of Aboveground Petroleum Storage Tanks.

RP 652, 3rd edition, Lining of Aboveground Petroleum Storage Tanks.

RP 938-C, 1st edition, Use of Duplex Stainless Steels in the Oil Refining Industry.

Inspection

Std 510, 98th edition, Pressure Vessel Inspection Code.

Std 570, 3rd edition, Piping Inspection Code.

RP 575, 3rd edition, Inspection of Atmospheric and Low Pressure Storage Tanks.

Pressure Vessel and Tanks

Std 620, 11th edition, Design and Construction of Large, Welded, Low-Pressure Storage Tanks.

Std 650, 11th edition, Welded Tanks for Oil Storage.

Std 653, 4th edition, Tank Inspection, Repair, Alteration, and Reconstruction.

Fitness for Service

RP 579, 2nd edition, Fitness for Service.

Electrical Equipment

Std 546, 3rd edition, Brushless Synchronous Machines—500kVA and Larger.

Std 547, 1st edition, General Purpose Form-wound Squirrel-cage Induction Motors larger than 250 HP.

Mechanical Equipment

Std 618, 5th edition, Reciprocating Compressors for Petroleum, Chemical, and Gas Industry Services.

Std 677, 3rd edition, General Purpose Gear Units.

Std 684, 3rd edition, Tutorial on Rotor Dynamics and Balancing.

Std 686, 2nd edition, Machinery Installation and Installation Design.

Heat Transfer Equipment

Publ 535, 2nd edition, Burners for Fired Heaters in General Refinery Services.

RP 536, 2nd edition, Post Combustion Nox Control for Equipment in General Refinery Services.

Std 661, 6th edition, Air Cooled Heat Exchangers (National Adoption of ISO 13706).

Piping

Std 600, 12th edition, Bolted Bonnet Steel Gate Valves (National Adoption of ISO 10434).

Std 602, 8th edition, Compact Steel Gat Valves-Flanged, Threaded, Welding, and Extended Body Ends (National Adoption of ISO 15761).

Std 607, 5th edition, Fire Test for Soft-Seated Quarter-Turn Valves.

Pressure Relieving Systems

RP 521, 5th edition, Guide for Pressure-Relieving and Depressuring Systems.

Instrument & Control Systems

RP 552, 2nd edition, Transmission Systems.

RP 554 Part 1, 2nd edition, Process Instrumentation and Control.

Technical Data Book—Petroleum Refining

Electronic Version of the Technical Data Book—Petroleum Refining, Release 4.0.

For Further Information Contact: David Soffrin, Standards Department, e-mail: soffrind@api.org.

Meetings/Conferences: The Spring Refining Meeting will be held at the Hilton New Orleans Riverside, April 18-20, 2005. The Fall Refining Meeting will be held at the Hyatt Regency McCormick Place, Chicago, Illinois, November 14-16, 2005. Interested parties may visit the API Web site at http://www.api.org/events for more information regarding participation in these meetings.

Committee on Safety and Fire Protection

RP 2001, 8th edition, Fire Protection in Refineries.

RP 2026, 2nd edition, Safe Access/Egress Involving Floating Roofs of Storage Tanks (probable reaffirmation).

RP 2030, 2nd edition, Application of Water Spray Systems for Fire Protection in the Petroleum Industry (probable reaffirmation).

RP 2207, 5th edition, Preparing Tank Bottoms for Hot Work (probable reaffirmation).

RP 2217A, 3rd edition, Guidelines for Work in Inert Confined Spaces in the Petroleum Industry.

RP 2218, 2nd edition, Fireproofing Practices in Petroleum and Petrochemical Processing Plants (probable reaffirmation).

RP 2219, Safe Operation of Vacuum Trucks in Petroleum Service (possible reaffirmation).

RP 2220, 2nd edition, Improving Owner and Contractor Safety Performance.

RP 2350, 3rd edition, Overfill Protection for Petroleum Storage Tanks.

For Further Information Contact: David Soffrin, Standards Department, e-mail: soffrind@api.org.

Committee on Petroleum Measurement

Manual of Petroleum Measurement Standards

Chapter 3.1A, 2nd edition, Manual Gauging of Petroleum and Petroleum Products.

Chapter 4.1, 2nd edition, Introduction to Proving Systems.

Chapter 4.9.1, 1st edition, Introduction to Determination of the Volume of Displacement and Tank Provers.

Chapter 4.9.2, 1st edition, Determination of the Volume of Displacement and Tank Provers by the Waterdraw Method of Calibration.

Chapter 4.9.3, 1st edition, Determination of the Volume of Displacement and Tank Provers by the Master Meter Method of Calibration.

Chapter 4.9.4, 1st edition, Determination of the Volume of Displacement and Tank Provers by the Gravimetric Method.

Chapter 5.1, 4th edition, General Consideration for Measurement by Meters.

Chapter 5.2, 3rd edition Measurement of Liquid Hydrocarbons by Displacement Meters.

Chapter 5.3, 5th edition, Measurement of Liquid Hydrocarbons by Turbine Meters.

Chapter 5.4, 4th edition, Accessory Equipment for Liquid Meters.

Chapter 5.5, 2nd edition, Fidelity and Security of Flow Measurement Pulsed-Data Transmission Systems.

Chapter 5.8, 1st edition, Measurement of Liquid Hydrocarbons by Ultrasonic Flowmeters Using Transit Time Technology.

Chapter 14.10, 1st edition, Flare Metering.

Chapter 12.1.3, 1st edition, Calculation Procedures for Liquefied Petroleum Gases.

Chapter 17.9, 1st edition, Vessel Experience Factors.

Chapter 17.10, 1st edition, Measurement of Refrigerated and Pressurized Cargo on Marine Tank Vessels.

Chapter 22.2, 1st edition, Testing Protocols for Pressure Differential Flow Measurement Devices.

For Further Information contact: Andrea Johnson, Standards Department, e-mail: johnsona@api.org.

API/ASTM/GPA Standards

MPMS Ch. 8.4/ASTM D5842, 2nd edition, Manual Sampling and Handling of Fuels for Volatility Measurement.

MPMS Ch. 10.5/ASTM D95, 4th edition, Standard Test Method for Water in Petroleum Products and Bituminous Materials by Distillation.

MPMS Ch. 10.6./ASTM D1796, 4th edition, Water and Sediment in Fuel Oils by Centrifuge.

MPMS Ch. 11.2.4/GPA TP-27/ASTM TBD, 1st edition, Temperature Correction for the Volume of NGL and LPG Tables 23E, 24E, 53E, 54E, 59E, 60E.

MPMS Ch. 11.2.5/GPA TP-15/ASTM TBD, 1st edition, Simplified Vapor Pressure Correlation for Commercial NGLs.

For Further Information Contact: Paula Watkins, Standards Department, e-mail: watkinsp@api.org.

Meetings/Conferences: The Fall Committee on Petroleum Measurement Meeting will take place at the Intercontinental New Orleans, New Orleans, Louisiana October 31-November 3, 2005. Interested parties may visit the API Web site at http://www.api.org/events for more information regarding participation in these meetings.

Committee on Exploration and Production

Production Equipment

Spec 6D, Addendum to 22nd edition, Pipeline Valves.

RP 6DR, 1st edition, Repair and Remanufacture of Pipeline Valves.

RP 6HT, 1st edition, Heat Treatment and Testing of Large Cross Section and Critical Section Components.

Spec 14A, 11th edition, Subsurface Safety Valve Equipment (National Adoption of ISO 10432).

RP 14B, 5th edition, Design, Installation, Repair and Operation of Subsurface Safety Valve Systems (National Adoption of ISO 10417).

Oil Country Tubular Goods

Oil Country Tubular Goods Tonnage Report.

Line Pipe Tonnage Report.

Spec 5CT, 8th edition, Casing & Tubing (National Adoption of ISO 11960).

RP 5UE, 2nd edition, Ultrasonic Evaluation of Pipe Imperfections.

Offshore Structures, Drill Through Equipment, and Subsea Production Equipment

RP 2A-WSD, Supplement to 21st edition, Planning, Designing and Constructing Fixed Offshore Platforms—Working Stress Design.

RP 2SK, 3rd edition, Design and Analysis of Stationkeeping Systems for Floating Structures.

RP 2Z, 4th edition, Preproduction Qualification for Steel Plates for Offshore Structures.

RP 17A, 4th edition, Design and Operation of Subsea Systems (National Adoption of ISO 13628-1).

RP 17G, 2nd edition, Design and Operation of Completion/Workover Riser Systems (National Adoption of ISO 13628-7).

Spec 17K, 2nd edition, Bonded Flexible Pipe (National Adoption of ISO 13628-10).

Drilling Operations and Equipment

Spec 4F, 3rd edition, Drilling and Well Servicing Structures (National Adoption of ISO 13626).

Spec 7K, 4th edition, Drilling and Well Servicing Equipment (National Adoption of ISO 14693).

Spec 7NRV, 1st edition, Drill String Non-Return Valves.

RP 9B, 12th edition, Wire Roper.

RP 10B, 23rd edition, Testing Well Cements (National Adoption of ISO 10426-2).

RP 10B-5, 1st edition, Determination of Shrinkage and Expansion of Well Cement Formulation at Atmospheric Pressure (National Adoption of ISO 10426-5).

RP 13B-2, 4th edition, Standard Procedures for Field Testing Oil-based Drilling Fluids (National Adoption of ISO 10414-2).

RP 13D, 5th edition, Rheology and Hydraulics of Oil Well Drilling Fluids.

Spec 16C, 2nd edition, Choke and Kill Systems.

Spec 16RCD, 1st edition, Drill Through Equipment/Rotating Control Devices.

For Further Information Contact: Mike Spanhel, Standards Department, e-mail: spanhel@api.org.

Meetings/Conferences: The 2005 Summer Standardization Conference on Oilfield Equipment & Materials will take place at the Hyatt Regency Calgary, Calgary, Alberta, Canada June 27-July 1, 2005. Interested parties may visit the API Web site at http://www.api.org/events for more information regarding participation in this meeting.

Executive Committee on Drilling and Production Operations

RP 2D, 6th edition, Operation and Maintenance of Offshore Cranes.

RP 14G, 3rd edition, Fire Prevention and Control on Open-type Offshore Production Platforms.

RP 59, 1st edition, Well Control.

RP 86 (tentative designation), 1st edition, Well Rate Determination.

For Further Information Contact: Tim Sampson, Upstream Department, e-mail: sampson@api.org.

For Additional Information on the overall API standards program, Contact: David Miller, Standards Department, e-mail: miller@api.org.

Dated: April 28, 2005.
Hratch G. Semerjian,
Acting Director.

[FR Doc. 05-9117 Filed 5-5-05; 8:45 am]

BILLING CODE 3510-13-P